DEPARTMENT OF THE INTERIOR

National Park Service

[NPS-WASO-NER-NPS0028084; PPNEHATUC0, PPMRSCR1Y.CU0000 (200); OMB Control Number 1024-0232]

Agency Information Collection Activities; National Underground Railroad Network to Freedom Program

AGENCY: National Park Service, Interior.

ACTION: Notice of information collection; request for comment.

SUMMARY: In accordance with the Paperwork Reduction Act of 1995, we, the National Park Service (NPS) are proposing to renew an information collection.

DATES: Interested persons are invited to submit comments on or before December 23, 2019.

ADDRESSES: Send written comments on this information collection request (ICR) to the Office of Management and Budget's (OMB) Desk Officer for the Department of the Interior by email at OIRA_Submission@omb.eop.gov; or by facsimile at 202-395-5806. Please provide a copy of your comments to Phadrea Ponds, Information Collection Clearance Officer, National Park Service, 1201 Oakridge Drive, Fort Collins, CO 80525; or by email at phadrea_ponds@nps.gov. Please reference OMB Control Number 1024-0232 in the subject line of your comments.

FOR FURTHER INFORMATION CONTACT: To request additional information about this ICR contact Diane Miller, National Program Manager, National Underground Railroad Network to Freedom Program, National Park Service, Harriet Tubman Underground Railroad Visitor Center, 4068 Golden Hill Road, Church Creek, Maryland 21622; or by email at diane_miller@nps.gov. Please reference OMB Control Number 1024-0232 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On May 28, 2019, we published a Federal Register notice soliciting comments on this collection of information for 60 days, ending on July 29, 2019 (84 FR 24541). We did not receive any public comments on this notice.

We are again soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Underground Railroad Network to Freedom Act of 1998 (54 U.S.C. 308301, et seq.) authorizes the NPS to collect information from applicants requesting to join the Network to Freedom Program (the Network). The NPS uses this information to evaluate potential participants and to coordinate the preservation and education efforts nationwide that integrate local historical places, museums, and interpretive programs associated with the Underground Railroad into a mosaic of community, regional, and national stories.

All entities that apply to join the Network must have a verifiable association with the historic Underground Railroad movement and complete NPS Form 10-946, “National Underground Railroad Network to Freedom Application,” available on our website at http://www.nps.gov/subjects/ugrr/index.htm. Respondents must (1) verify associations and characteristics through descriptive texts that are the result of historical research and (2) submit supporting documentation; e.g., copies of rare documents, photographs, and maps. The majority of the information is submitted in electronic format and used to determine eligibility to become part of the Network.

Network to Freedom Program Partners work with the NPS to help validate the efforts of local and regional organizations, making it easier for them to share their expertise and communicate with us and each other. Prospective partners must submit a letter with the following information:

• Name and address of the agency, company or organization;

• Name, address, and phone, fax, and email information of principal contact;

• Abstract not to exceed 200 words describing the partner's activity or mission statement; and

• Brief description of the entity's association to the Underground Railroad.

With this submission, we are requesting one change on page 2 of form 10-946. The change is to clarify the contact information to distinguish between the owner/manager and the person completing the application (if they are different).

Title of Collection: National Underground Railroad Network to Freedom Program.

OMB Control Number: 1024-0232.

Form Number: NPS Form 10-946, “National Underground Railroad Network to Freedom Application.”

Type of Review: Extension of a currently approved collection.

Respondents/Affected Public: Individuals; businesses; nonprofit organizations; and Federal, State, tribal, and local governments.

Respondent's Obligation: Required to obtain or retain a benefit.

Frequency of Collection: On occasion.

Total Estimated Annual Nonhour Burden Cost: None.

Activity | Estimated number of annual responses | Completion time per response (hours) | Estimated total annual burden hours
Network Application (Form 10-946) | 25 | 160 | 1,000
Partner Request | 2 | .5 | 1
Totals | 27 |  | 1,001

We are reporting 400 fewer burden hours, due to a decrease in responses. The burden hour per response remains the same. Due to staffing shortages and decreased activity in the program, the resulting annualized cost for administering the program are lower than the last reporting period. When vacant positions are filled, the number of responses and costs are expected to rise to previous levels.

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2019-25381 Filed 11-21-19; 8:45 am]

BILLING CODE 4312-52-P